DEPARTMENT OF THE INTERIOR

National Park Service

Appalachian National Scenic Trail; Notice of Realty Action

AGENCY: National Park Service.

ACTION: Notice of realty action.

SUMMARY: This notice announces a proposed exchange of a federally-owned easement interest for easement interests in private lands both located in Putnam County, New York. The proposed exchange will benefit the United States by acquisition of 63.28 acres in easement interest. A portion of this land is encumbered with an easement already owned by the United States. This area includes 1.52 miles of the Appalachian Trail (AT) footpath. The new easement will supercede the previous easement acquired in Deed Book 829, Page 230. It will provide enhanced permanent protection for the AT and relocate the footpath away from recently developed property. In exchange the United States will release a portion of the previously acquired easement to the Friars of the Atonement resulting in 1.81 acres in the vicinity of their improvements being unencumbered by a Federal interest and will allow a reservation for the sewer lines in the area.

I. The following described Federally-owned easement acquired by the National Park Service, has been determined to be suitable for disposal by exchange. The selected Federal land is within the protective corridor for the Appalachian National Scenic Trail. The land has been surveyed for cultural resources and endangered and threatened species. These reports are available upon request.

A Federally owned easement interest is to be exchanged: Tracts 277-49/51/53/55 are an easement acquired by the United States of America by deed recorded in Deed Book 829, Page 230, in the Clerk's Office of Putnam County, State of New York. Conveyance by the United States will be done by a Quitclaim Deed.

II. In exchange for the interest described in Paragraph I above, the Friars of the Atonement will convey to the United States of America a right-of-way easement interest in land located within the boundaries of the protective corridor for the Appalachian National Scenic Trail.

The interest in the land to be acquired by the United States of America is described as follows: Tract 277-31, is an easement containing 63.28 acres acquired by the Friars of the Atonement by deeds recorded in Deed Book 123, Page 250; Deed Book 123, Page 249; Deed Book 131, Page 295; Deed Book 144, Page 106; Deed Book 152, Page 434; Deed Book 456, Page 256; Deed Book 474, Page 329; Deed Book 530, Page 405; Deed Book 635, Page 197 and Deed Book 709, Page 133; all recorded in the Clerk's Office of Putnam County, State of New York. The conveyance will be done by General Warranty Deed.

The value of the interests to be exchanged shall be determined by current fair market value appraisals and if they are not appropriately equal, the values shall be equalized by a cash payment.

SUPPLEMENTARY INFORMATION: The authority for this exchange is Section 5(b) of the Land and Water Conservation Fund Act Amendments in Public Law 90-401, approved July 15, 1968, and section 7(f) of the National Trails System Act, Public Law 90-543, as amended.

Detailed information concerning this exchange including precise legal descriptions, Land Protection Plan and Cultural reports are available at the address below.

For a period of 45 days from the date of this notice, interested parties may submit written comments to the address below. Adverse comments will be evaluated and this action may be modified or vacated accordingly. In the absence of any action to modify or vacate, this realty action will become the final determination of the Department of the Interior.

FOR FURTHER INFORMATION CONTACT: Chief, Acquisition Division, National Park Service, Appalachian Trail Land Acquisition Field Office, PO Box 908, Martinsburg, West Virginia 25402-0908, (304) 263-4943.

Dated: November 3, 2000.
Pamela Underhill,
Park Manager, Appalachian National Scenic Trail.

[FR Doc. 01-6898 Filed 3-19-01; 8:45 am]

BILLING CODE 4310-70-P